DEPARTMENT OF ENERGY

Federal Energy Regulatory Commission

[Docket No. RP06-399-000]

Kern River Gas Transmission Company; Notice of Petition for Waiver of Tariff Provisions and Request for Expedited Action

June 30, 2006.

Take notice that on June 21, 2006, Kern River Gas Transmission Company (Kern River) filed a petition for limited waiver of tariff provisions and requested expedited action by July 10, 2006.

Kern River states that the purpose of this filing is to grant a limited waiver of section 27.2(c) of its tariff to extend the matching period for a specific short-term pre-arranged transportation transaction from two to twenty-four hours. Kern River states that the pre-arranged shipper is a regulated entity, and any matching bids submitted must first be approved by the associated public utilities commission and other state regulatory agencies. Kern River concludes that it is highly unlikely that agency approvals could be coordinated, and a matching bid could be submitted, within the two-hour window specified in Kern River's tariff.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 6, 2006.

Magalie R. Salas,
Secretary.

[FR Doc. E6-10700 Filed 7-7-06; 8:45 am]

BILLING CODE 6717-01-P